DEPARTMENT OF TRANSPORTATION

[Docket Number: DOT-OST-2020-0254]

Request for Information for the Inclusive Design Reference Hub

Correction

In notice document 2020-27994 appearing on pages 83152-83154 in the issue of Monday, December 21, 2020, make the following correction:

(1) On page 83152, in the first column, in the DATES section, change “January 20, 2021” to read “January 21, 2021.”

[FR Doc. C1-2020-27994 Filed 1-12-21; 8:45 am]

BILLING CODE 1301-00-D